INTERNATIONAL TRADE COMMISSION

[Investigation No. 337-TA-613]

In the Matter of Certain 3G Mobile Handsets and Components Thereof; Notice of Commission Decision Not To Review an Initial Determination Granting Complainants' Motion To Amend the Complaint and Notice of Investigation

AGENCY: U.S. International Trade Commission.

ACTION: Notice.

SUMMARY: Notice is hereby given that the U.S. International Trade Commission has determined not to review an initial determination (“ID”) (Order No. 3) issued by the presiding administrative law judge (“ALJ”) granting complainants’ motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-613 on September 11, 2007, based on a complaint filed by InterDigital Communications Corporation of King of Prussia, Pennsylvania, and InterDigital Technology Corporation of Wilmington, Delaware (collectively, “InterDigital”). The complaint alleges violations of section 337 of the Tariff Act of 1930 (19 U.S.C. 1337) in the importation into the United States, the sale for importation, and the sale within the United States after importation of certain 3G mobile handsets and components thereof by reason of infringement of various claims in United States Patent Nos. 7,117,004 and 7,190,966. The complaint named Nokia Corporation of Finland and Nokia Inc. of Irving, Texas as respondents.

On September 28, 2007, InterDigital filed a motion to amend the complaint and notice of investigation to add allegations of unfair trade practices in the importation into the United States, the sale for importation, and the sale within the United States after importation of certain 3G mobile handsets and components thereof by reason of infringement of various claims in United States Patent No. 6,973,579 (“the ‘579 patent”). The Commission investigative attorney supported the motion.

On October 11, 2007, the ALJ granted InterDigital's motion, finding that, pursuant to Commission Rule 210.14(b)(1) (19 CFR 210.14(b)(1)), there was good cause to add the allegations based on the ‘579 patent. No petitions for review were filed. The Commission has determined not to review the ALJ's ID.

The authority for the Commission's determination is contained in section 337 of the Tariff Act of 1930, as amended (19 U.S.C. 1337), and in section 210.42 of the Commission's Rules of Practice and Procedure (19 CFR 210.42).

By order of the Commission.
Issued: November 1, 2007.
Marilyn R. Abbott,
Secretary to the Commission.

[FR Doc. E7-21837 Filed 11-6-07; 8:45 am]

BILLING CODE 7020-02-P